DEPARTMENT OF LABOR

Employment and Training Administration

Notice of Determinations Regarding Eligibility to Apply for Worker Adjustment Assistance and NAFTA Transitional Adjustment Assistance

In accordance with Section 223 of the Trade Act of 1974, as amended, the Department of Labor herein presents summaries of determinations regarding eligibility to apply for trade adjustment assistance for workers (TA-W) issued during the period of May 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2)(A) (I.C.) (Increased imports) and (a)(2)(B) (II.B) (No shift in production to a foreign country) have not been met.

TA-W-51,098; Colonial Tanning Corp., Gloversville, NY

TA-W-51,009; Robert Bosch Tool Corp., (formerly the Vermont American Corp.), Engineering Center, Louisville, KY

TA-W-51,644; Nichirin Coupler Tec USA, Inc., El Paso, TX

TA-W-50,687; Metso Paper USA, Inc., Beloit, WI

TA-W-51,043; Mount Vernon Mills, Inc., Fresno Fabrics Div., Part of The Apparel Fabrics Group, a wholly owned subsidiary of R.B. Pamplin Corp., Fresco, CA

TA-W-51,160; Parkson Corp., Pompano, FL

TA-W-51,333; Standard Precision Manufacturing, Meadville, PA

TA-W-51,493; Chicago Bridge and Iron Constructors, Inc., Water Div., Warren, PA

TA-W-51,531; Susquehanna Metal Products, Inc., Watsontown, PA

TA-W-51,704; T. Raymond Forest Products, Inc., Lee, ME

TA-W-50,927; Southwire Co., Specialty Products Div., Osceola, AR

TA-W-51,617; Ebara Solar, Inc., a subsidiary of Ebara Corp., Belle Vernon, PA

TA-W-51,334; Chicago Fire Brick, Inc., Chicago, IL

The workers firm does not produce an article as required for certification under Section 222 of the Trade Act of 1974.

TA-W-51,214; Millward Brown, Racine, WI

TA-W-50,974; Divine, Inc., Burlington, MA

TA-W-51,021; Advanced Materials Technology, Inc., Tempe, AZ

TA-W-51,637; Mell Trimming Co., Inc., New York, NY

TA-W-51,577; ACS Business Process Solutions, Inc., Canada Mail Room, El Paso, TX

The investigation revealed that criterion (a)(2)(A) (I.A) (no employment declines) have not been met.

TA-W-51,766; Fishing Vessel (F/V) Return, King Cove, AK

TA-W-51,864; Fishing Vessel (F/V) Seafarer, Sitka, AK

TA-W-51,094; Quebecor World Kingsport, Inc., Kingsport, TN, Quebecor World Hawkings, Church Hill, TN

TA-W-51,785; Astro-Netics, Inc., Madison Heights, MI

The investigation revealed that criteria (a)(2)(A)(I.B) (Sales or production, or both, did not decline) and (II.B) (has shifted production to a county not under the free trade agreement with the U.S.) have not been met.

TA-W-51,541; Luzenac America, Inc., Windsor, VT

TA-W-51,863; Fishing Vessel (F/V) Amber J., Juneau, AK

TA-W-51,547; Datacard Corp., Minnetonka, MN

Affirmative Determinations for Worker Adjustment Assistance

The following certifications have been issued; the date following the company name and location of each determination references the impact date for all workers of such determination.

The following certifications have been issued. The requirements of (a)(2)(A) (increased imports) of Section 222 have been met.

TA-W-51,457; Crown Manufacturing, Hornbeak, TN: March 3, 2002.

TA-W-51,643; JLG Industries, Inc., Bedford Plant, Sunnyside Road, Bedford, PA: April 1, 2002.

TA-W-51,123; Spectra-Star, Div of Marvel Entertainment, Yuma, AZ: March 4, 2002.

TA-W-51,387; Oregon Metallurgical Corp., d/b/a Allvac, Albany, OR: March 27, 2002.

TA-W-51,590; Ansell Healthcare Limited, a Div. of Ansell Occupational Healthcare, Thomasville, NC: April 15, 2002.

TA-W-51,545; Temple-Inland Forest Products Corp., Mt. Jewett Particleboard Operation, Mt. Jewett, PA: April 14, 2002.

TA-W-51,533; Belcase Office Furniture, Inc., Including Leased Workers of SPMI, Ratcliff, AR: April 16, 2002.

TA-W-51,095; M. Wile Co., d/b/a HMX Tailored, Buffalo, NY: February 21, 2002.

TA-W-51,647; Sanmina-SCI Corp., EMS Div., Woburn, MA: April 30, 2002.

TA-W-51,714; A&M Thermometer Corp., Asheville, NC: May 7, 2002.

TA-W-51,511; Frederick Goldman, Inc., New York, NY: April 15, 2002.

TA-W-51,411; Corteco, Newport, TN: March 25, 2002.

The following certifications have been issued. The requirements of (a)(2)(B) (shift in production) of Section 222 have been met.

TA-W-51,492; Q.C. Onics Ventures, LP, Harlingen—Plant 5, Including Leased Workers of Austin Personnel Services and Manpower, Harlingen, TX: April 3, 2002.

TA-W-51,670; Honeywell Sending and Control, Clarostat Div., El Paso, TX: April 30, 2002.

TA-W-51,697; Lyall Technologies, Inc., Murray Products Div., Murray, IA: May 5, 2002.

TA-W-51,806; Fishing Vessel (F/V) Mattie Lynn, Ninilchik, AK: April 28, 2002.

TA-W-51,806; Velan Valve Corp., a wholly-owned subsidiary of Velan Valve, Inc., Williston, VT: April 27, 2002.

TA-W-51,459; Caterpillar, Inc., Caterpillar Global Paving Products Div., Brooklyn Park, MN: April 7, 2002.

TA-W-51,755; Selkirk LLS, Selkirk Metalbestos Div., Logan, OH: May 12, 2002.

TA-W-50,987; Environmental Textiles, Claremore, OK: February 25, 2002.

TA-W-51,552; Celestica, Inc., including leased workers of Adecco, Westminster, CO: April 21, 2002.

TA-W-51,818; Federal Mogul Ignition Group, Lighting Div., including leased workers of Adecco Staffing Agency and Reliance, Hampton, VA: May 20, 2002.

TA-W-51,729; Fun-Tees, Inc., Dewing Plant, Concord, NC: May 6, 2002.

TA-W-51,734; Jockey International, Inc., Alamo, TN: May 12, 2002.

TA-W-51,180; G.E. Packaged Power, LP, including leased workers of Kelly Temp Service, Corpus Christi, TX: March 10, 2002.

TA-W-51,587; Nestle USA, Confections and Snacks Div., Fulton, NY: April 14, 2003.

The following certification has been issued. The requirement of upstream supplier to a trade certified primary firm has been met.

TA-W-51,817; Farside Fish Camp, Kodiak, AK: May 15, 2002.

I hereby certify that the aforementioned determinations were issued during the month of May 2003. Copies of these determinations are available for inspection in Room C-5311, U.S. Department of Labor, 200 Constitution Avenue, NW., Washington, DC 20210 during normal business hours or will be mailed to persons who write to the above address.

Dated: June 10, 2003.
Timothy Sullivan,
Director, Division of Trade Adjustment Assistance.

[FR Doc. 03-15477 Filed 6-18-03; 8:45 am]

BILLING CODE 4510-30-P